NATIONAL AERONAUTICS AND SPACE ADMINISTRATION

[Notice: (21-067)]

NASA Advisory Council; Science Committee; Meeting

AGENCY: National Aeronautics and Space Administration.

ACTION: Notice of meeting.

SUMMARY: In accordance with the Federal Advisory Committee Act, as amended, the National Aeronautics and Space Administration (NASA) announces a meeting of the Science Committee of the NASA Advisory Council (NAC). This Committee reports to the NAC. The meeting will be held for the purpose of soliciting, from the scientific community and other persons, scientific and technical information relevant to program planning.

DATES: Tuesday, November 9, 2021, 1:00 p.m.-5:00 p.m.; and Wednesday, November 10, 2021, 1:00 p.m.-5:00 p.m., Eastern Time.

FOR FURTHER INFORMATION CONTACT: Ms. KarShelia Kinard, Science Mission Directorate, NASA Headquarters, Washington, DC 20546, (202) 358-2355 or kinard.karshelia@nasa.gov.

SUPPLEMENTARY INFORMATION: This meeting will be open to the public via Webex and telephonically. Webex connectivity information for each day is provided below. For audio, when you join the Webex event, you may use your computer or provide your phone number to receive a call back, otherwise, call the U.S. toll conference number listed for each day.

On Tuesday, November 9, the event address for attendees is: https://nasaenterprise.webex.com/nasaenterprise/onstage/g.php?MTID=eb715a9199d752a0d8487e6365ee73cd0. The event number is 2761 186 1343 and the event password is gNXHJ5P3q2@. If needed, the U.S. toll conference number is 1-415-527-5035 and access code is 2761 186 1343.

On Wednesday, November 10, the event address for attendees is: https://nasaenterprise.webex.com/nasaenterprise/onstage/g.php?MTID=e937e5ef302feb393e886cbd2c20dfc29. The event number is 2764 249 6233 and the event password is 3AXxBxhY$42. If needed, the U.S. toll conference number is 1-415-527-5035 and access code is 2764 249 6233. The agenda for the meeting includes the following topics:

—Science Mission Directorate (SMD) Missions, Programs and Activities

It is imperative that the meeting be held on these dates due to the scheduling priorities of the key participants.

Patricia Rausch,
Advisory Committee Management Officer, National Aeronautics and Space Administration.

[FR Doc. 2021-22882 Filed 10-20-21; 8:45 am]

BILLING CODE 7510-13-P